DEPARTMENT OF DEFENSE

Department of the Army

Availability for Non-Exclusive, Exclusive, or Partially Exclusive Licensing of U.S. Patent Application Concerning a Method and Apparatus for Generating Two-Dimensional Images of Cervical Tissue From Three-Dimensional Hyperspectral Cubes

AGENCY: Department of the Army, DoD.

ACTION: Notice.

SUMMARY: In accordance with 37 CFR 404.6 and 404.7, announcement is made of the availability for licensing of U.S. Patent Application No. 10/051,286 entitled “A Method and Apparatus for Generating Two-Dimensional Images of Cervical Tissue from Three-Dimensional Hyperspectral Cubes,” filed January 22, 2002. Foreign rights are also available (PCT/US02/01585). The United States Government, as represented by the Secretary of the Army, has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: This invention relates to detection and diagnosis of cervical cancer. More particularly, this invention relates to methods and devices for generating images of the cervix, which allow medical specialists to detect and diagnose cancerous and pre-cancerous lesions.

Brenda S. Bowen,
Alternate Army Federal Register Liaison Officer.

[FR Doc. 04-13269 Filed 6-10-04; 8:45 am]

BILLING CODE 3710-08-M